DEPARTMENT OF ENERGY

National Nuclear Security Administration

Record of Decision for the Final Site-Wide Environmental Impact Statement for Continued Operation of the Lawrence Livermore National Laboratory

AGENCY: National Nuclear Security Administration, Department of Energy.

ACTION: Record of decision.

SUMMARY: The National Nuclear Security Administration (NNSA), a semi-autonomous agency within the U.S. Department of Energy (DOE), is issuing this Record of Decision (ROD) for the Final Site-Wide Environmental Impact Statement (SWEIS) for Continued Operation of the Lawrence Livermore National Laboratory (LLNL) in California (Final LLNL SWEIS) (DOE/EIS-0547). NNSA prepared the Final LLNL SWEIS to analyze the potential environmental impacts associated with reasonable alternatives for continuing LLNL operations and foreseeable new and/or modified operations and facilities for approximately the next 15 years. The SWEIS analyzes two alternatives: No-Action Alternative and Proposed Action. In this ROD, NNSA announces its decision to implement the Proposed Action.

FOR FURTHER INFORMATION CONTACT: For further information on this ROD or the LLNL SWEIS, contact: Thomas Grim, National Environmental Policy Act (NEPA) Document Manager, National Nuclear Security Administration, Livermore Field Office, P.O. Box 808, Livermore, CA 94551; via email at LLNLSWEIS@nnsa.doe.gov, or by phone at (833)778-0508. This ROD, the LLNL SWEIS, and related NEPA documents are available at www.energy.gov/nnsa/nnsa-nepa-reading-room.

SUPPLEMENTARY INFORMATION:

Background

The NNSA is responsible for meeting the national security requirements established by the President and Congress to maintain and enhance the safety, reliability, and performance of the U.S. nuclear weapons stockpile. The continued operation of LLNL is critical to NNSA's Stockpile Stewardship and Management Program, to prevent the spread and use of nuclear weapons worldwide, and to many other areas that may impact national security and global stability (50 U.S.C. 2521).

LLNL is a federally funded research and development center that conducts research for the U.S. Government in accordance with 48 CFR 35.017. LLNL has been in existence since 1952, employs approximately 8,000 people (employees and contractors), and has a current annual budget of approximately $3 billion.

LLNL consists of two federally owned sites: an 821-acre site in Livermore, California (Livermore Site), and a 7,000-acre experimental test site (Site 300) southeast of the Livermore Site between Livermore and Tracy, California. Most LLNL operations are located at the Livermore Site, which is situated about 50 miles east of San Francisco in southeastern Alameda County. Site 300 is primarily a test site for high explosives and non-nuclear weapons components; it is located about 15 miles southeast of Livermore in the hills of the Diablo Range. LLNL's primary responsibility is ensuring the safety, reliability, and performance of the nation's nuclear weapons stockpile. However, LLNL's mission is broader than stockpile stewardship, as dangers ranging from nuclear proliferation and terrorism to biosecurity and climate change threaten national security and global stability. More than eighteen (18) years have passed since the publication of the 2005 Final Site-wide Environmental Impact Statement for Continued Operation of Lawrence Livermore National Laboratory and Supplemental Stockpile Stewardship and Management Programmatic Environmental Impact Statement (2005 LLNL SWEIS). Because of proposed plans for new facilities, demolition of older facilities, enhanced and modernized site utilities projects, as well as needed modifications/upgrades of existing facilities to ensure ongoing safe operations, NNSA determined that it was appropriate to update the previous 2005 LLNL SWEIS analysis.

Under the No-Action Alternative, NNSA would continue current facility operations throughout LLNL in support of assigned missions. The No-Action Alternative includes previously approved construction of new facilities; modernization, upgrade, and utility projects; and decontamination, decommission, and demolition (DD&D) of excess and aging facilities.

The Proposed Action in the 2023 Final LLNL SWEIS includes an increase in current facility operations or enhanced operations that would require new or modified facilities over the next 15 years. The Proposed Action also includes the scope of operations, facility construction, and DD&D under the No-Action Alternative through 2022. Continued re-investment would allow LLNL to meet mission deliverables and sustain science, technology, and engineering excellence to meet future mission requirements. In addition to the No-Action Alternative, the Proposed Action includes approximately 75 new projects, totaling approximately 3.3 million square feet, from 2023-2035. NNSA also proposes 20 types of modernization/upgrade/utility projects, most involving several facilities. Under the Proposed Action, about 150 facilities, totaling approximately 1,170,000 square feet would undergo DD&D. The Proposed Action also includes operational changes that would increase the tritium emissions limits in the National Ignition Facility (NIF) (Building 581) and the Tritium Facility (Building 331), and decrease the administrative limit for fuels-grade-equivalent plutonium in the Superblock (Building 332). In addition, the Proposed Action increases the administrative limits for plutonium-239 at Building 235, and increases the NIF administrative limits for plutonium-239 and tritium. The administrative limit changes for both Building 235 and the NIF would maintain the existing facility characterization of “less than Hazard Category-3” in accordance with DOE Standard (DOE-STD-1027) revisions approved for use at LLNL.

NEPA Process for This ROD

NNSA has prepared this ROD in accordance with Section 102(2)(C) of the NEPA (42 U.S.C. 4321-4347, as amended), regulations promulgated by the Council on Environmental Quality (CEQ) for implementing NEPA (40 CFR parts 1500-1508), and DOE's NEPA implementing regulations (10 CFR part 1021). This ROD is based on Federal law and NNSA's mission, and information and analysis in the Final LLNL SWEIS including public comments received. The Draft LLNL SWEIS was distributed electronically for review and comment as part of the public participation process. During the comment period, NNSA held two in-person hearings and one virtual hearing to receive comments on the Draft LLNL SWEIS. At the in-person hearings, an open house preceded the formal public comment period. During the open house, the public was invited to engage with NNSA personnel within their areas of expertise and ask questions about the Draft SWEIS. The in-person and virtual hearings were attended by approximately 70 persons and 29 speakers provided comments. These comments were recorded in formal transcripts. In addition to the comments during the public hearings, approximately 84 comment documents (including 41 comment documents submitted as an email campaign) were received from individuals, interested groups, and Federal, State, and local agencies during the comment period on the Draft LLNL SWEIS.

The majority of the comments received on the Draft SWEIS focused on the NEPA process, policy issues, and the scope of the Proposed Action. Scans of those comment documents are located in Volume 3 (Comment Response Document [CRD]) of the Final LLNL SWEIS. In addition, comments from the three public hearings are included in the scanned transcripts, which are also located in Volume 3. All comments received were treated equally by NNSA. Chapter 2 of Volume 3 contains summaries of all comments received on the LLNL Draft SWEIS as well as NNSA's responses to those comments. After considering all comments and modifying the Draft SWEIS, NNSA completed the Final LLNL SWEIS. NNSA posted the Final LLNL SWEIS on the NNSA NEPA Reading Room website (www.energy.gov/nnsa/nnsa-nepa-reading-room) and published a Notice of Availability in the Federal Register (88 FR 75566, November 3, 2023). Hard copies of the Final LLNL SWEIS were delivered to the City of Livermore and Tracy public libraries. During the 30-day period after the Notice of Availability, NNSA received 24 comment documents related to the Final LLNL SWEIS. This ROD includes NNSA's responses to those comments.

Summary of Impacts

Brief summaries of impacts are provided below for each resource area:

Land Use: At the Livermore Site total land disturbance would be 85.5 acres. About 26.5 acres of land would be reclaimed as a result of DD&D; 2.5 acres restored for cooling tower pipeline; and 4 acres of laydown areas would also be restored. Net change in land disturbance would be 52.5 acres. Removal of limited area fencing, expanded bicycle network, expanded pedestrian walkways, rebalanced vehicle parking, and Lake Haussmann enhancements would create more green space by 2035. At Site 300, land disturbance would be 36 acres, and 0.4 acres of land would be reclaimed as a result of DD&D, and 1 acre of laydown areas would be restored. Net change in land disturbance would be 34.6 acres. Operations would be consistent with current land use designations and historic uses of LLNL land.

Aesthetics and Scenic Resources: Construction activities would result in temporary changes to the visual appearance of both sites due to the presence of cranes, construction equipment, demolition, facilities in various stages of construction/DD&D, and possibly increased dust. The Livermore Site would remain highly developed with a campus-style or business park appearance. Changes at Site 300 would occur in the site interior and would be consistent with the existing character of the site.

Geology and Soils: Soil disturbances would be minimal; no prime farmland exists. Ongoing remediation efforts would continue to improve soil conditions at both sites. Major regional faults exist, but no active faults underlie the sites. There is no historical record of surface rupturing or faulting, although there is potential for surface faulting at Site 300. Any new facility would be designed and constructed to meet seismic design criteria commensurate with the risk category requirements. Potential impacts from geologic hazards (i.e., seismic events) are discussed under “Accidents.”

Water Resources: New facilities would increase impervious surfaces, which could increase stormwater runoff. LLNL meets stormwater compliance monitoring requirements and implementation of a Stormwater Pollution Prevention Plan would minimize any pollution that might leave the site by stormwater. Ongoing remediation efforts would continue to improve groundwater conditions at both sites. In accordance with 10 CFR part 1022, the DOE/NNSA prepared an appendix to provide an analysis of the potential impacts on floodplains and wetlands from the No-Action Alternative and Proposed Action. The New North Entry would be located in the north buffer zone and could potentially affect floodplains. The roadway for the New North Entry would cross approximately 0.9 acres (approximately 2 percent) of the 500-year floodplain (critical action floodplain) in the north buffer zone and approximately 0.1 acres (approximately 0.4 percent) of the 100-year floodplain (base floodplain) along Arroyo Las Positas. The proposed bridge would span the Arroyo Las Positas and the roadway would continue through previously developed land onto the Livermore Site. The New Fire Station, if located near the North Entry, could disturb approximately 0.7 acres (approximately 1.6 percent) of the 500-year floodplain (critical action floodplain) but would not disturb any acres of the 100-year floodplain (base floodplain). The enhancements in Lake Haussmann would not involve wetlands or affect impoundment-waters. Even with enhancements, Lake Haussmann would continue to serve as a conveyance channel.

Air Quality: Fugitive dust would be generated during clearing, grading, and other earth-moving operations. Construction and operational emissions would not: (1) result in a considerable net increase (i.e., greater than the de minimis thresholds) of any criteria pollutant for which the project region is non-attainment; (2) expose sensitive receptors to substantial pollutant concentrations; (3) conflict with or obstruct implementation of the applicable air quality plan; or (4) violate any air quality standard or contribute substantially to an existing or projected air quality violation. Greenhouse gas (GHG) emissions would increase by approximately 5,239 metric tons annually compared to the No-Action Alternative. These GHG emissions associated with the Proposed Action would represent 0.03 percent of the State of California GHG emissions. Radiological air emissions of tritium at the Livermore Site were estimated to be 3,610 curies based on emissions limits. There would be minimal radiological air emissions at Site 300. Impacts associated with radiological air emissions are addressed in “Human Health and Safety.” The estimated annual dose to the maximally exposed individual (MEI) at the Livermore Site and Site 300 would remain well below the U.S. Environmental Protection Agency (USEPA) limit of 10 millirem per year.

Noise: Although construction and DD&D activities would cause temporary noise impacts, most activities would be confined to areas more than 500 feet from the site property boundaries. Six projects at the Livermore Site and four at Site 300 would be constructed within 500 feet of a site boundary. However, offsite noise impacts would be minimal. Explosive testing noise impacts at Site 300 would be the same as for the No-Action Alternative. Explosive testing conducted at the Contained Firing Facility and on open firing tables at Site 300 would be unchanged when compared to current operations. Additionally, with regard to explosive testing, LLNL would maintain its self-imposed 126 dB impulse noise limits for offsite populated areas.

Biological Resources: The net land disturbance would be 52.5 acres (Livermore Site) and 34.6 acres (Site 300). Construction would have no appreciable impact on native vegetation, plant species of concern, wetlands or waters of the United States, viability of federally or state-listed species, or modification of United States Fish and Wildlife Service-designated critical habitat. Construction is not expected to result in adverse modification of USFWS-designated critical habitat at the Livermore Site or Site 300. Operations would be consistent with current activities and would have no appreciable impact on biological resources. Potential impacts from projects at the Livermore Site, Site 300, and the Arroyo Mocho Pumping Station would be minimized by conservation measures, which would be developed and implemented in consultation with regulatory agencies.

Cultural and Paleontological Resources: The probability of impacting archaeological resources would be low because any ground disturbing activities would be reviewed for the potential for effects prior to permit approval. Archaeological and pre-historic sites have been identified and recorded and would continue to be avoided. Because fossils and/or fossil remains have been discovered at both sites, any excavations have the potential to impact similar fossils/fossil remains. Both sites have undergone a comprehensive review to identify significant historic buildings, structures, and objects, and those that were determined eligible for the National Register have already been mitigated and are no longer eligible. The 2012 comprehensive review of architectural resources included those resources constructed prior to 1990. Therefore, buildings, structures, and objects that were built after 1990 and thus were not part of that comprehensive review may become eligible for listing on the National Register. An updated comprehensive review is planned consistent with the evaluation approach to identify significant (post-1990) historic buildings, structures, and objects, that was followed in 2007 and 2012.

Socioeconomics: Socioeconomic impacts associated with construction would be temporary and lower than operational impacts. Once steady-state operations are reached in 2035, employment at LLNL is projected to increase to 10,750 workers (10,344 workers at the Livermore Site and 406 workers at Site 300). This would represent an increase of 1,410 workers over the No-Action Alternative workforce, resulting in an estimated 860 indirect jobs in the four-county region of influence (ROI) workforce. Due to the low potential for impacts on the ROI population, operations by 2035 would not affect fire protection, police protection services, or medical services. The number of school-age children associated with the additional workforce potentially migrating into the ROI would be 908 children. The increase in school enrollment would represent 0.1 percent of the projected 2034-2035 school enrollment for the ROI. This minimal increase in school enrollment would have a negligible effect on school services in the ROI.

Environmental Justice: No high and adverse impacts from construction and operation activities at LLNL are expected. Consequently, there would be no disproportionate and adverse impacts to minority or low-income populations. For routes involving offsite shipments, modeling of all 888 potential offsite shipments would yield a bounding collective incident-free dose to the general public of 24.7 person-rem, with an associated increased risk of 0.015 latent cancer fatalities (LCF). Impacts to the minority and low-income populations along these routes would be a fraction of the LCF risk presented above and would not result in disproportionate and adverse impacts to minority or low-income populations.

Traffic and Transportation: By 2035, employment at LLNL is projected to increase by 1,410 workers over the No-Action Alternative workforce. If all 1,410 workers were to commute to the Livermore Site (which is a bounding assumption for the transportation analysis), local traffic would increase by an average of approximately 2.3 percent (note: traffic on specific roads in the vicinity of the Livermore Site would increase by 1.6—3.2 percent). The increase in traffic would not affect the level-of-service on roads in the vicinity of LLNL. The New North Entry to the Livermore Site is expected to be operational in approximately 2025. This site entry would reduce the average daily traffic (ADT) volumes on Vasco Road and Greenville Road and increase the ADT volume on Patterson Pass Road in the vicinity of the Livermore Site. The net effect would be a reduction in traffic backups and delays in the mornings on Vasco Road at the West Gate entrance.

Radiological and Hazardous Material Transportation: As a result of increased operations and nonroutine shipments of low-level radioactive waste (LLW)/mixed LLW (MLLW) associated with DD&D, there could be more total shipments of radiological materials for the Proposed Action compared to the No-Action Alternative. Modeling all 888 potential offsite shipments results in dose to transport-crews of 69.2 person-rem per year (0.042 LCFs); incident-free dose to the general public of 24.7 person-rem (0.015 LCFs); accident risk to public of 2.9 × 10⁻⁶ LCFs; and 0.038 traffic fatalities from accidents.

Infrastructure: Electricity use, natural gas use, potable water use, and wastewater generation are all projected to increase at both sites. The onsite distribution systems and the capacities of utility providers are not expected to be adversely impacted, however any increase in water use at LLNL would add to overall water demands and supply issues in the region. NNSA will continue to evaluate the feasibility and implementation of water and energy conservation measures at LLNL.

Waste Management and Materials Management: Operations (including construction and DD&D) would generate a variety of wastes (including radioactive, hazardous, mixed, and sanitary) and would increase as a result of normal operations. NNSA does not expect additional waste associated with the Proposed Action to be unique or substantially different from the types of waste already managed within LLNL, although a larger proportion of DD&D waste and construction debris is expected. Although there could be higher quantities of hazardous materials used under the Proposed Action, NNSA does not expect additional adverse impacts from managing these materials.

Human Health and Safety: During normal operations, facilities at LLNL would release small quantities of radioactive emissions to the environment. In addition, skyshine from the NIF would provide a dose to a person standing at a public location outside the fence line. The MEI dose from the emissions and skyshine would be 4.21 millirem per year, resulting in an annual LCF risk of 0.0000025. This is below the USEPA limit of 10 millirem per year. As a comparison, background radiation is 625 millirem per year. With regard to workers, the average annual dose to a radiological worker was estimated to be 173.5 millirem per year. This would result in an annual LCF risk of 1 × 10⁻⁴ (i.e., approximately 1 LCF every 9,000 years).

Site Contamination and Remediation: Remediation of groundwater and soil contamination at both the Livermore Site and Site 300 would continue. NNSA complies with provisions specified in the two Federal Facility Agreements (FFA) entered into by USEPA, DOE, the California EPA Department of Health Services (now Department of Toxic Substances Control), and the San Francisco Bay and Central Valley Regional Water Quality Control Board. Any future remediation actions would be conducted in accordance with the FFA, and NNSA did not propose any specific changes to future remediation activities in the SWEIS.

Accidents: NNSA analyzed radiological, chemical, high explosives, and biological accidents that could be caused by events such as explosions, fires, aircraft crashes, criticalities, and earthquakes. None of the accidents evaluated would cause a fatality to a member of the public, with the exception of an aircraft crash into Building 625, which could cause a population dose of 4,300 person-rem within a 50-mile radius of the site (2.6 LCFs). Because that accident has an annual probability of occurring of approximately 6.3 × 10⁻⁷, the risks of an LCF from such an accident would be 1.6 × 10⁻⁶ (i.e., 1 LCF every 610,000 years).

Intentional Destructive Acts (IDA): NNSA prepared a Security Risk Assessment (SRA) that analyzed potential impacts of intentional destructive acts at LLNL (e.g., sabotage, terrorism). The SRA contains sensitive information related to security concerns and is not publicly releasable. The IDA impacts and the SWEIS accident impacts have similar consequences for radioactive materials dispersal, criticality events, chemicals, and biological events.

Environmentally Preferable Alternative

Considering the many environmental facets of the two alternatives analyzed in the LLNL SWEIS, and with consideration to the long-term effects, the No-Action Alternative is the environmentally preferred alternative because fewer adverse impacts would result compared to the Proposed Action. However, the No-Action Alternative would not meet the purpose and need for agency action.

Comments on the Final LLNL SWEIS

NNSA posted the Final LLNL SWEIS on the NNSA NEPA Reading Room website (www.energy.gov/nnsa/nnsa-nepa-reading-room) and published a Notice of Availability in the Federal Register (88 FR 75566, November 3, 2023). Hard copies of the Final LLNL SWEIS were delivered to the City of Livermore and Tracy public libraries. During the 30-day period after the Notice of Availability, NNSA received 23 comment documents related to the Final LLNL SWEIS. Of those 23 documents, 19 were part of an email campaign and contained the same comments. Four (4) unique documents with comments were received. All of the comment documents received are included in the Administrative Record for the LLNL SWEIS NEPA process. As indicated below, NNSA considered all of the comments contained in these documents during the preparation of this ROD, and provides the following comment-responses:

1. Commenters stated that NNSA inadequately responded to comments on the Draft SWEIS requesting additional alternatives and stated that the Final SWEIS failed to analyze any of the reasonable alternatives proposed by commenters, such as expansion of LLNL's focus on climate change adaptation and amelioration technologies, nuclear non-proliferation, environmental clean-up technologies, alternative fuels, clean energy technologies, battery development, energy-grid efficiency, green building technologies, and other science areas.

Response: The reasonable SWEIS alternatives are those that NNSA determined would meet the purpose and need presented in Section 1.3 of the Final SWEIS. Section 3.5 of the Final SWEIS discusses other alternatives that NNSA considered in developing this SWEIS. Other alternatives were considered as suggested by commenters during the scoping process and/or comment period for the Draft LLNL SWEIS. As discussed in Section 3.5, those alternatives, were eliminated from detailed analysis because they would not allow LLNL to fulfill its NNSA mission requirements. NNSA believes that comment-responses 6-A, 6-C, and 6-D in the Comment Response Document (CRD) in Volume 3 of the SWEIS adequately address this issue.

2. Commenters stated that plutonium pit work at LLNL remains opaque and requested that NNSA clarify the relationship of plutonium operations to expanded plutonium pit production. Commenters cited concerns with increasing the administrative limits for plutonium at Building 235 and increases in risk and plutonium shipments.

Response: NNSA believes that Chapter 2 and Appendix A of the Final SWEIS provides sufficient descriptions of the LLNL missions, programs, and activities for a reader to understand that LLNL conducts activities to meet national security requirements to maintain and enhance the safety, security, and effectiveness of the U.S. nuclear weapons stockpile. To accomplish its missions, LLNL conducts plutonium-related activities. That has been true for more than 70 years and is expected to be true for the foreseeable future. Plutonium and pit-related activities are specifically discussed in Chapter 2 and Appendix A of the Final SWEIS. NNSA believes that increased operations at LLNL, as represented by the Proposed Action in this SWEIS, are needed for LLNL to meet national security requirements to maintain and enhance the safety, security, and effectiveness of the U.S. nuclear weapons stockpile. The proposed increase in the administrative limits for plutonium at Building 235 would maintain the existing facility limit of “less than Hazard Category-3” in accordance with DOE-STD-1027 revisions approved for use at LLNL. The potential impacts associated with increasing these administrative limits are addressed in Chapter 5 and Appendix C of the Final SWEIS. NNSA believes that comment-responses 1-B, 4-E, 9-A, 16-C, 19-A, and 20-F in the CRD adequately address this issue.

3. Commenters stated that the USEPA submitted comments on the Draft SWEIS with specific recommendations, most of which the NNSA disregarded. Commenters specifically cited USEPA recommendations related to: (a) Comprehensive Environmental Response, Compensation, and Liability Act (CERCLA) remedial actions; (b) mitigation and best management practices (BMP); (c) additional air quality monitoring along site perimeters at Site 300) to provide real time information on criteria pollutants and radiological constituents, and (d) analysis of impacts to low-income or minority populations that might be disproportionately impacted by the transportation of transuranic (TRU) waste both along the route and near the disposal sites, the Waste Isolation Pilot Plant in Carlsbad, New Mexico.

Response: Comments from the USEPA were specifically considered and addressed by NNSA as evidenced by comment-responses 24-A, 24-B-1, 24-B-2, 24-C, 24-D, 24-E, 24-F, 24-G, 24-H, 24-I, and 24-J in the CRD. NNSA believes those responses adequately address the issues and recommendations submitted by the USEPA. NNSA also notes the USEPA review comments on the Final SWEIS, stating that, “[USEPA] appreciates the direct responses to our comments and recommendations in the Final EIS.”

(a) Ongoing remedial investigations and cleanup activities for legacy contamination of environmental media at LLNL fall under the CERCLA (42 U.S.C. 9601). NNSA complies with provisions specified in Federal Facility Agreements. As presented in the Final SWEIS, NNSA is not proposing any new CERCLA remedial actions and solutions in the SWEIS. NNSA has an ongoing Superfund cleanup program for contaminated soil and groundwater under the CERCLA process. The CERCLA process addresses ongoing remediation actions, prevention of mobilization of contaminants, and mitigations and are not repeated in this SWEIS. The proposed new facilities and DD&D activities would not change this ongoing cleanup program. Additionally, the CERCLA program is a public process as well. Any changes to the CERCLA program are negotiated with appropriate regulatory agencies before implementation.

(b) Section 5.19 of the Final SWEIS contains information on mitigation measures. Table 5-74 provides examples of design features and potential BMPs that could be utilized for new projects at LLNL. Sections 5.19.1-5.19.12 discuss these features and BMPs as applicable to the environmental resources evaluated in the SWEIS. More specific design features and BMPs will be identified and implemented during the project planning phase for any new proposed and approved work, and DD&D activities. Engineering controls will be employed to reduce potential impacts to acceptable levels for protection of human health and the environment.

(c) Air quality monitoring along site perimeters of Site 300 is established with concurrence from appropriate regulatory agencies. NNSA believes the air monitoring stations at Site 300 are adequate and ensure regulatory compliance. Surveillance monitors for radioactive particulate, tritium, and at some locations, beryllium, are well established at the perimeter of both Livermore Site and Site 300 and at off-site locations. While they are not “real-time,” a quick turnaround in basic radionuclide analysis is achievable by the analytical labs performing the analysis. NNSA produces an Annual Site Environmental Report that provides details on surveillance monitoring. LLNL does not exceed any regulatory limits at surveillance locations.

(d) As described in comment response 15-B of the CRD, NNSA analyzed the potential impacts (including accidents) of transporting radioactive materials and TRU waste from LLNL to disposal facilities. As discussed in Section 5.11.3.2, under the Proposed Action, modeling of all 888 potential offsite shipments would yield a bounding collective incident-free dose to the general public of 24.7 person-rem, with an associated increased risk of 0.015 LCF; and a bounding cumulative increased risk of 2.9 × 10⁻⁶ LCF to the general public from accidents that result in a container breach/release. Based on the potential routes to the disposal sites, impacts to the minority and low-income populations would consist of a fraction of the LCF risk presented above.

4. The USEPA recommends that NNSA prepare additional NEPA analyses where significant changed conditions or new circumstances related to site-specific project construction or DD&D activities are found to have the potential to violate any federal, state, and local laws or regulatory limits, or increase the potential for adverse environmental and human health impacts.

Response: NNSA agrees with the USEPA recommendation and will prepare NEPA analyses, as appropriate, for site-specific project construction or DD&D activities (that are not addressed in, or exceed, the SWEIS analysis) in accordance with the requirements of NEPA, regulations promulgated by the Council on Environmental Quality, DOE's NEPA implementing procedures (10 CFR part 1021), and NNSA Policy (NAP) 451.1.

5. The USEPA stated that it is not clear where the Site 300 air quality monitor is located and when monitoring takes place. The USEPA requests that the next National Emission Standards for Hazardous Air Pollutants (NESHAP) report, due June 30, 2024, detail this information and include a map of Site 300.

Response: The radiological air effluent sampling systems and locations are provided in Chapter 4, Table 4-9. In the next NESHAPs report, NNSA will provide additional details on the Site 300 air quality monitoring and a map of Site 300 showing the location of air monitors. Air monitoring information is also located in Chapter 4 and Appendix A of the Annual Site Environmental Report (ASER) at https://aser.llnl.gov.

6. With regard to per- and polyfluoroalkyl substances (PFAS), the USEPA recommends continued site characterization and monitoring of drinking water wells, groundwater and soil and continued coordination with the regional water quality control boards and the State Department of Toxic Substances Control to control the mobilization of these contaminants and mitigate impacts.

Response: NNSA agrees to continued site characterization and monitoring of drinking water wells, groundwater and soil and continued coordination with the regional water quality control boards and the State Department of Toxic Substances Control to control the mobilization of contaminants and mitigate impacts.

Decision

The continued operation of LLNL is critical to NNSA's Stockpile Stewardship and Management Program, to prevent the spread and use of nuclear weapons worldwide, and to many other areas that may impact national security and global stability. NNSA has decided to implement the Proposed Action. The Proposed Action will enable NNSA to fulfill its statutory missions and other responsibilities, considering economic, environmental, technical, and other factors.

Basis for Decision

The Final SWEIS provided the NNSA decision-maker with important information regarding the potential environmental impacts of alternatives and options for satisfying the purpose and need. In addition to environmental information, NNSA also considered public comments, statutory responsibilities, strategic objectives, technical needs, safeguards and security, costs, and schedule in its decision-making.

Mitigation Measures

No potential adverse impacts were identified that will require additional mitigation measures beyond those required by regulations, permits, and agreements or achieved through design features or best management practices. However, if mitigation measures above and beyond those required by regulations, permits, and agreements are needed to reduce impacts during implementation, they will be developed, documented, and executed. Because no new potential adverse impacts were identified that will require additional mitigation measures beyond those required by regulation or achieved through design features or best management practices, NNSA does not expect to prepare a Mitigation Action Plan.

Signing Authority

This document of the Department of Energy was signed on February 8, 2024, by Jill Hruby, Under Secretary for Nuclear Security and Administrator, NNSA, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 14, 2024.
Treena V. Garrett,
Federal Register Liaison Officer, U.S. Department of Energy.

[FR Doc. 2024-03351 Filed 2-16-24; 8:45 am]

BILLING CODE 6450-01-P